ENVIRONMENTAL PROTECTION AGENCY

40 CFR Part 52

[EPA-R03-OAR-2006-0607; FRL-8233-2]

Approval and Promulgation of Air Quality Implementation Plans; Maryland; State Implementation Plan Revision for American Cyanamid Company, Havre de Grace, MD

AGENCY: Environmental Protection Agency (EPA).

ACTION: Final rule.

SUMMARY: EPA is approving a State Implementation Plan (SIP) revision submitted by the State of Maryland. The intended effect of this action is to remove an August 2, 1984 Secretarial Order (Order) from the Maryland SIP. The Order constituted a Plan for Compliance (PFC) and an alternative method of assessing compliance at an American Cyanamid Company (Company) facility located in Havre de Grace, Harford County, Maryland (the Facility). The Order allowed for certain volatile organic compound (VOC) emissions sources at the Facility to achieve compliance with emissions limits through averaging (or “bubbling”) of emissions over a 24-hour period. Removal of the Order from the SIP will remove the “bubbling” compliance option for these sources at the Facility. In lieu of “bubbling,” the sources must comply with the approved and more stringent Maryland SIP provisions for the control of VOC emissions, which do not allow averaging or “bubbling.” This action is being taken under the Clean Air Act (CAA or the Act).

EFFECTIVE DATE: This final rule is effective on November 24, 2006.

ADDRESSES: EPA has established a docket for this action under Docket ID Number EPA R03-OAR-2006-0607. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Air Protection Division, U.S. Environmental Protection Agency, Region III, 1650 Arch Street, Philadelphia, PA 19103. Copies of the State submittal are available at the Maryland Department of the Environment, 1800 Washington Boulevard, Suite 705, Baltimore, Maryland.

FOR FURTHER INFORMATION CONTACT: Neil Bigioni, (215) 814-2781, or by e-mail at bigioni.neil@epa.gov.

SUPPLEMENTARY INFORMATION:

I. Background

On August 23, 2006 (71 FR 49393), EPA published a notice of proposed rulemaking (NPR) for the State of Maryland. The NPR proposed approval of a SIP revision to remove the Order from the Maryland SIP. The formal SIP revision was submitted by Maryland on May 17, 2006.

The Order was approved into the Maryland SIP in a final rule published on May 16, 1990 (55 FR 20269). The Order provided the Company with a PFC and an alternative method of assessing compliance for certain installations located at the Facility by allowing the averaging or “bubbling” of the emissions of VOC over a 24-hour period. By allowing “bubbling” of VOC emissions the Company could over-control emissions at some units and under control at other units such that the overall emissions from the sources collectively would be the same as those that would be achieved utilizing traditional control strategies at each source. The VOC sources where “bubbling” was allowed at the Facility were components of the Facility's paper and fabric adhesive coating operation, and included Towers 2, 3, and 5 and the FM-1000 coater/dryer.

II. Summary of SIP Revision

Removal of the Order from the SIP will subject the VOC emissions sources at the Facility that were formerly subject to the “bubbling” provisions of the Order to the Maryland VOC regulations and limits codified at Code of Maryland Regulations (COMAR) 26.11.19.07. Those COMAR regulations are part of the Maryland SIP (65 FR 2334, January 14, 2000). The materials submitted by Maryland in support of the SIP revision indicate that the Facility currently intends to comply with the SIP-approved VOC limits by reducing VOC emissions through use of a regenerative thermal oxidizer, as allowed by COMAR 26.11.19.02B(2)(b)(ii) and the Maryland SIP (68 FR 9012, February 27, 2003). This SIP revision will remove the current ability for the current owner of the Facility, Cytec Engineered Materials, Inc., to comply with VOC emissions limits for the sources subject to the Order through averaging or “bubbling” of VOC emissions. The SIP-approved limits codified at COMAR 26.11.19.07C do not allow for compliance through averaging/“bubbling.” The applicable COMAR 26.11.19.07C limits of 2.9 pounds of VOC per gallon of coating as applied (minus water), are also more stringent than the emissions limit of 3.2 pounds of VOC per gallon of coating as applied (minus water) imposed by the Order. No public comments were received on the NPR.

III. Final Action

EPA is approving the removal of the August 2, 1984 Secretarial Order as a revision to the Maryland SIP.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a State rule implementing a Federal requirement, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for a named source.

C. Petitions for Judicial Review

Under section 307(b)(1) of the Clean Air Act, petitions for judicial review of this action must be filed in the United States Court of Appeals for the appropriate circuit by December 26, 2006. Filing a petition for reconsideration by the Administrator of this final rule does not affect the finality of this rule for the purposes of judicial review nor does it extend the time within which a petition for judicial review may be filed, and shall not postpone the effectiveness of such rule or action. This action approving the removal of the August 2, 1984 Secretarial Order as a revision to the Maryland SIP may not be challenged later in proceedings to enforce its requirements. (See section 307(b)(2).)

List of Subjects in 40 CFR Part 52

Environmental protection, Air pollution control, Ozone, Reporting and recordkeeping requirements, Volatile organic compounds.

Dated: October 16, 2006.
William Wisniewski,
Acting Regional Administrator, Region III.

For reasons set forth in the preamble, 40 CFR part 52 is amended as follows:

PART 52—[AMENDED]

1. The authority citation for part 52 continues to read as follows:

Authority: 42 U.S.C. 7401 et seq.

Subpart V—Maryland

2. In § 52.1070, the table in paragraph (d) is amended by removing the entry for American Cyanamid Co.

[FR Doc. E6-17795 Filed 10-23-06; 8:45 am]

BILLING CODE 6560-50-P